DEPARTMENT OF HEALTH AND HUMAN SERVICES

Centers for Disease Control and Prevention

[Program Announcement 04196]

Rapid Expansion of HIV/AIDS Prevention, Care and Treatment Activities by the Ministry of National Education of Cote d'Ivoire Under the President's Emergency Plan for AIDS Relief; Notice of Intent to Fund Single Eligibility Award

A. Purpose

The Centers for Disease Control and Prevention (CDC) announces the intent to fund fiscal year (FY) 2004 funds for a cooperative agreement program to assist the Ministry of National Education (MEN) of Cote d'Ivoire to rapidly expand their efforts to prevent HIV/AIDS among students and staff members, and to provide, or link with, effective comprehensive care and treatment services for HIV-infected students and staff members. The Catalog of Federal Domestic Assistance number for this program is 93.941.

B. Eligible Applicant

The Ministry of National Education (MEN) of Cote d'Ivoire is the only organization that can apply for these funds. This Ministry is the only organization that is mandated by the Government of Cote d'Ivoire to train, supervise, and provide services and activities for all three target groups named in this announcement: students, school teachers, and school health professionals; and is, therefore, the most direct route to reach these populations with effective HIV prevention and care interventions.

C. Funding

Approximately $200,000 is available in FY 2004 to fund this award. It is expected that the award will begin on or before July 15, 2004, and will be made for a 12-month budget period within a project period of up to three years. Funding estimates may change.

D. Where To Obtain Additional Information

For general comments or questions about this announcement, contact:

Technical Information Management, CDC Procurement and Grants Office, 2920 Brandywine Road, Atlanta, GA 30341-4146, Telephone: (770) 488-2700.

For program technical assistance, contact: Karen Ryder, Project Officer, CDC/Projet RETRO-CI, 2010 Abidjan Place, Dulles, Virginia 20189-2010, Telephone: (225) 21-25-41-89, E-mail: kkr1@cdc.gov.

For financial, grants management, or budget assistance, contact: Shirley Wynn, Contract Specialist, CDC Procurement and Grants Office, 2920 Brandywine Road, Atlanta, GA 30341, Telephone: (770) 488-1515, E-mail: zbx6@cdc.gov.

Dated: June 4, 2004.
William P. Nichols,
Acting Director, Procurement and Grants Office, Centers for Disease Control and Prevention.

[FR Doc. 04-13135 Filed 6-9-04; 8:45 am]

BILLING CODE 4163-18-P